ENVIRONMENTAL PROTECTION AGENCY

[EPA-HQ-OPP-2007-0103; FRL-8339-3]

Pyridate; Product Cancellation Order to Terminate Uses of Certain Pesticide Registrations

AGENCY: Environmental Protection Agency (EPA).

ACTION: Notice.

SUMMARY: This notice announces EPA's order for the cancellation, voluntarily requested by the registrant and accepted by the Agency, of products containing the pesticide pyridate, pursuant to section 6(f)(1) of the Federal Insecticide, Fungicide, and Rodenticide Act (FIFRA), as amended. This cancellation order follows an April 18, 2007, Federal Register Notice of Receipt of Request from the pyridate registrant to voluntarily cancel all of its pyridate section 24(c) product registrations registered under FIFRA. These are the last pyridate products registered for use in the United States. In the April 18, 2007, notice, EPA indicated that it would issue an order implementing the cancellation, unless the Agency received substantive comments within the 180-day comment period that would merit its further review of these requests, or unless the registrant withdrew its request within this period. The Agency received one comment on the notice but it did not merit further review of the request. Further, the registrant did not withdraw the request. Accordingly, EPA hereby issues in this notice a cancellation order granting the requested cancellation to terminate uses. Any distribution, sale, or use of the pyridate products subject to this cancellation order is permitted only in accordance with the terms of this order, including any existing stocks provisions.

DATES: The cancellations are effective November 21, 2007.

FOR FURTHER INFORMATION CONTACT: John W. Pates, Jr., Special Review and Reregistration Division (7508P), Office of Pesticide Programs, Environmental Protection Agency, 1200 Pennsylvania Ave., NW., Washington, DC 20460-0001; telephone number: (703) 308-8195; fax number: (703) 308-8005; e-mail address: pates.john@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0103. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces the cancellation to terminate use, as requested by the registrant, of all section 24(c) pyridate products registered under FIFRA. These registrations are listed in sequence by registration number in Table 1 of this unit.

Table 1.—Pyridate Product Cancellations
EPA Registration Number | Product Name
CA010008 | Tough 5EC
ID010006 | Tough 5EC
IN010001 | Tough 5EC
MT010003 | Tough 5EC
ND000007 | Tough 5EC
OR010005 | Tough 5EC
WA010007 | Tough 5EC
WI010005 | Tough 5EC

Table 2 of this unit includes the name and address of record for the registrant of the products in Table 1 of this unit.

Table 2.—Registrant of Canceled Pyridate Products
EPA Company Number | Company Name and Address
100 | Syngenta Crop Protection, Inc., P.O. Box 18300, Greensboro, NC 27419-8300

III. Summary of Public Comments Received and Agency Response to Comments

During the public comment period provided, EPA received one comment in response to the Federal Register notice of April 18, 2007 (72 FR 19491) (FRL-8124-4), announcing the Agency's receipt of the request for voluntary cancellation. The comment received was a request for an extension of the Special Local Need label to allow the use of existing stocks of pyridate by mint growers. However, the Federal Register notice already specified that mint growers may use the FIFRA 24(c) labels to apply existing stocks of the previously-canceled parent product, Tough EC (EPA Reg. No. 100-880) to mint, until such existing stocks are exhausted. For this reason, the Agency does not believe that the comment submitted during the comment period merits further review or a denial of the request for voluntary cancellation.

IV. Cancellation Order

Pursuant to FIFRA section 6(f), EPA hereby approves the requested cancellation to terminate use of the pyridate FIFRA section 24(c) registrations identified in Table 1. Accordingly, the Agency orders that the pyridate FIFRA 24(c) registrations identified in Table 1 are hereby canceled. Any distribution, sale, or use of existing stocks of the products identified in Table 1 of Unit II. in a manner inconsistent with any of the Provisions for Disposition of Existing Stocks set forth in Unit VI. will be considered a violation of FIFRA.

V. What Is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

The Agency intends to allow persons other than the registrant to continue to use the FIFRA section 24(c) labels to apply existing stocks of the previously-canceled parent section 3 product, Tough 5EC (EPA Reg. No. 100-880), to mint, provided such use is consistent with the section 24(c) labels, until such existing stocks are exhausted. The registrant will not be permitted to sell or distribute the previously-canceled parent section 3 product, Tough 5EC (EPA Reg. No. 100-880), but existing stocks already in the hands of dealers or users may be distributed, sold or used legally until they are exhausted.

List of Subjects

Environmental protection, Pesticides and pests.

Dated: November 13, 2007,
Peter Caulkins,
Acting Director, Special Review and Reregistration Division, Office of Pesticide Programs.

[FR Doc. E7-22663 Filed 11-20-07; 8:45 am]

BILLING CODE 6560-50-S